DEPARTMENT OF TRANSPORTATION

Federal Aviation Administration

[Docket No. 2022-1273]

Agency Information Collection Activities: Requests for Comments; Approval of Clearance Renewal for Information Collection: For the Information Collection Entitled, Website for Frequency Coordination Request

AGENCY: Federal Aviation Administration (FAA), DOT.

ACTION: Notice and request for comments.

SUMMARY: In accordance with the Paperwork Reduction Act of 1995, FAA invites public comments about our intention to request the Office of Management and Budget (OMB) approval to allow renewal of the currently approved information collection via the FAA's deployed Web-based Frequency Coordination system (WebFCR), which collects certain broadcast and transmitter frequency information under OMB control number 2120-0786. The Federal Register Notice with a 60-day comment period soliciting comments on the following collection of information was published on September 28, 2022. The collection involves information needed to perform the aeronautical studies, technical evaluations and engineering required to meet the specified requirements for the radio frequency engineering pursuant to the FAA Order. The Federal Aviation Administration (FAA) Order 6050.32.B, chapter 3, section 302, which outlines the US National Organizations, and the role of the National Telecommunications and Information Administration (NTIA) is assigning the Aviation Assignment Group (AAG) of the radio spectrum to FAA which support aeronautical services. Hence, FAA must “authorize” aeronautical frequencies of broadcast applications which impact the AAG bands.

DATES: Written comments should be submitted by January 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Christopher S. Jones by email at: Christopher S. Jones@faa.gov; phone: (202) 267-5926.

By mail: Christopher S. Jones, Spectrum Engineering and Assignment, AJW-191, Room 7E-325, 800 Independence Avenue, Washington DC 20591.

By fax: (202) 267-6056.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0786.

Title: website for Frequency Coordination Request (WebFCR) webfcr.faa.gov.

Form Numbers: Historically related to FAA Form 7460-1.

Type of Review: Request for renewal of information collection.

Background: The Federal Register notice with a 60-day comment period soliciting comments on the following collection of information was published on September 28, 2022 (FR 2022-20969). The purpose of the information is to meet the reference 49 U.S.C. Section 44718(c) under Broadcast Applications and Tower Studies states, `in carrying out laws related to a broadcast application'—the Administrator of the Federal Aviation Administration and the Federal Communications Commission shall take action necessary to coordinate efficiently—(1) The receipt and consideration of, and action on, the application; and (2) The completion of any associated aeronautical study. Currently, transmitter broadcast radio frequency data is collected via OMB Control 2120-0786 to address non-Federal, military, U.S. Federal agency, State and municipalities broadcast applications which require consideration, analysis or aeronautical studies pursuant to 49 U.S.C. 44718(c).

Respondents: Approximately 2400 annually. The Respondents are engineers, analysts, consultants, stakeholders or federal agency managers, including military services, who have a need to transmit on a radio frequency which is within the National Telecommunications and Information Administration's (NTIA) Aviation Assignment Group (AAG) frequency band assigned to the FAA for civil aviation use. The response to this data collection is required for the proponent to obtain FAA concurrence to use a radio frequency that impacts civil aviation. The information collected through the WebFCR portal supports the engineering, modeling, validation and workflow management of the request to evaluate if the request interferes or impacts civil aviation operations pursuant to FAA Order 6050.32B.

Frequency: Information is collected on occasion.

Estimated Average Burden per Response: 0.2 hours.

Estimated Total Annual Burden: 480 hours.

Issued in Washington, DC on December 20, 2022.
Christopher S. Jones,
Spectrum Engineering and Assignment Navigation Lead, Spectrum Engineering and Assignment Group, AJW-1910.

[FR Doc. 2022-27937 Filed 12-22-22; 8:45 am]

BILLING CODE P